DEPARTMENT OF THE INTERIOR

Bureau of Land Management

[CA-650-1430-ET; CACA 2642 01]

Notice of Proposed Withdrawal and Opportunity for Public Meeting; California

AGENCY: Bureau of Land Management, Interior.

ACTION: Notice.

SUMMARY: The Bureau of Land Management proposes to withdraw 22,331.83 acres of public lands in Kern County to protect the Desert Tortoise Natural Area. This notice closes the lands for up to 2 years from surface entry and mining. The lands will remain open to mineral leasing and the Materials Act of 1947. Up to 3,206.52 acres of non-federally owned lands would be subject to this withdrawal if they are acquired by the United States in the future by exchange, donation, or purchase. The Desert Tortoise Natural Area was originally withdrawn, for a term of 20 years, by Public Land Order number 5694, which expired on February 4, 2000. The Bureau of Land Management has determined that the lands should be withdrawn for an additional 20 years, which is the purpose of this proposed action.

DATES: Comments and requests for a public meeting must be received by July 11, 2000.

ADDRESSES: Comments and meeting requests should be sent to the Field Manager, BLM Ridgecrest Field Office (CA-650), 300 South Richmond Road, Ridgecrest, California 93555.

FOR FURTHER INFORMATION CONTACT: Duane Marti, BLM California State Office, 916-978-4675 or Janet Eubanks, BLM California District Office, 909-697-5376.

SUPPLEMENTARY INFORMATION: On March 13, 2000, a petition was approved allowing the Bureau of Land Management to file an application to withdraw the following described public lands from location and entry under the mining laws, subject to valid existing rights:

Public Lands

Mount Diablo Meridian, California

T. 30 S., R. 38 E.,

Sec. 13, lots 1, 2, 9, 10, and 11, E½SE¼, and 90.11 acres of S½ lying easterly of Koehn Dry Lake per Dependent Resurvey approved July 30, 1971;

Sec. 23, lots 6, 7, 8, 11, and 12, E½SE¼ , and unnumbered lots with 5.72, 19.06, 21.29 and 37.04 acres;

Sec. 24, lots 1 to 3, inclusive, and lots 5 to 16, inclusive;

Sec. 25;

Sec. 26, lots 1, 2, 4, and 5, E½, and SW¼;

Sec. 34, S½;

Sec. 35;

Sec. 36, NE¼NE¼, S½NE¼, W½, NW¼NE¼SE¼, S½NW¼SE¼, E½NW¼SW¼SE¼, S½SW¼SE¼, and SE¼SE¼.

T. 31 S., R. 38 E.,

Secs. 1 to 4, inclusive;

Sec. 5, S½;

Sec. 8;

Sec. 9, N½, SE¼, N½NE¼SW¼SW¼, N½NE¼NW¼SW¼, and E½SW¼;

Sec. 10;

Sec. 11, N½, SW¼, NW¼SE¼, S½SE¼SE¼, S½N½SE¼SE¼, S½NE¼SE¼, and W½SW¼SE¼;

Sec. 12;

Sec. 13, E½NE¼, S½NW¼NE¼, W½NW¼NW¼NE¼, W½E½NW¼NW¼NE¼, E½NE¼NW¼, E½NW¼NW¼, NW¼NW¼NW¼, N½SW¼NW¼, SW¼SW¼SW¼NW¼, SE¼NE¼SE¼SW¼, E½E½NW¼SE¼SW¼, NW¼NW¼SE¼SW¼, SW¼SW¼SE¼SW¼, E½SW¼SE¼SW¼, S½SE¼SW¼SE¼, NW¼SE¼SE¼, SW¼SW¼SE¼SE¼, SE¼SE¼SE¼, and E½E½SW¼SE¼SE¼;

Sec. 14;

Sec. 15, E½, SW¼, SE¼NW¼, W½NE¼NW¼, N½NW¼NW¼, SW¼NW¼SW¼NW¼, SE¼NE¼SW¼ NW¼, and S½SW¼NW¼;

Sec. 16, E½, E½W½, NW¼NW¼, NE¼NE¼SW¼NW¼, S½NW¼SW¼NW¼, N½S½SW¼/NW¼, E½W½SW¼, NW¼NW¼SW¼, and NW¼SW¼SW¼;

Sec. 17, N½;

Sec. 18, lots 3 and 4, E/12, and E½NW¼;

Sec. 19, N½N½ of lot 1 of the NW¼, S½ of lot 1 of the NW¼, lots 1 and 2 of the SW¼ and E½;

Sec. 20;

Sec. 21, NW¼NE¼, SE¼SW¼NE¼, SE¼SE¼NE¼, N½SE¼NE¼, NW¼NW¼, SE¼NW¼, N½NE¼SW¼, NW¼SW¼, SE¼SW¼, E½NE¼SE¼, E½E½NW¼NE¼SE¼, E½NW¼SE¼, NW¼NW¼SE¼, W½SW¼SW¼SE¼, SE¼SW¼SE¼, E½W½SE¼SE¼, and E½SE¼SE¼;

Sec. 22;

Sec. 23, W½SW¼, SE¼SW¼, and S½NE¼SW¼;

Secs. 24 and 26;

Sec. 27, NE¼NE¼, E½NW¼NE¼, SW¼NW¼NE¼, SW¼NE¼, W½NE¼NE¼NW¼,W½NE¼NW¼, S½SE¼NW¼NE¼, S½N½NW¼NW¼, S½S½NW¼NW¼, N½SW¼NW¼, N½S½SW¼NW¼, SE¼SW¼SW¼NW¼, SW¼SE¼NW¼, N½SW¼, SW¼SW¼, and SE¼;

Secs. 28 to 30, inclusive;

Sec. 31, lots 1 and 2 of the NW¼, lots 1 and 2 of the SW¼, N½NE¼, SE¼NE¼, N½SE¼, and SW¼SE¼SE¼;

Sec. 32;

Sec. 33, N½NE¼, W½W½SW¼NE¼, E½E½SW¼NE¼, N½SE¼NE¼, N½NE¼NW¼, N½S½NE¼NW¼, SE¼SW¼NE¼NW¼, NW¼NW¼, S½NW¼, E½NE¼SW¼, W½W½NE¼SW¼, NW¼NW¼SW¼, S½NW¼SW¼, N½SW¼SW¼, SW¼SW¼SW¼, N½SE¼SW¼, W½SW¼SE¼SW¼, W½NW¼NE¼SE¼, W½SE¼, and N½SE¼SE¼;

Sec. 34.

T. 32 S., R. 38 E.,

Sec. 4 and 6;

Sec. 5, lots 15, 28, 31, 41, 49, 51, 99, 103, 113, 119, 136, 142, 170, 191, 200, 218 and 223 of Tract No. 2714, as per map filed December 7, 1962 in Book 13 Pages 94 to 98, inclusive of maps in the office of the county recorder of said county.

The areas described aggregate 22,331.83 acres in Kern County.

In addition, if any of the non-federally owned lands within the area described below are acquired by the United States in the future by exchange, donation, or purchase, those lands will be subject to this withdrawal:

Non-Federally Owned Lands

Mount Diablo Meridian, California

T. 30 S., R. 38 E.,

Sec. 36, NW¼NE¼, E½NE¼SE¼, SW¼NE¼SE¼, N½NW¼SE¼, NE¼SW¼SE¼, and W½NW¼SW¼SE¼.

T. 31 S., R. 38 E.,

Sec. 9, S½NE¼NW¼SW¼, NW¼NW¼SW¼, S½NW¼SW¼, S½NE¼SW¼SW¼, NW¼SW¼SW¼, and S½SW¼SW¼;

Sec. 11, N½NE¼SE¼, E½SW¼SE¼, and N½N½SE¼SE¼;

Sec. 13, NE¼NW¼NE¼, E½E½NW¼NW¼NE¼, SW¼NE¼, W½NE¼NW¼, SW¼NW¼NW¼, SE¼SW¼NW¼, N½SW¼SW¼NW¼, SE¼SW¼SW¼NW¼, SE¼NW¼, N½SW¼, SW¼SW¼, N½NE¼SE¼SW¼, SW¼NE¼SE¼SW¼, W½E½NW¼SE¼SW¼, SW¼NW¼SE¼SW¼, NW¼SW¼SE¼SW¼, SE¼SE¼SW¼, N½SE¼, N½SW¼SE¼, SW¼SW¼SE¼, N½SE¼SW¼SE¼, NW¼SW¼SE¼SE¼, W½E½SW¼SE¼SE¼ and NE¼ SE¼ SE¼;

Sec. 15, E½NE¼NW¼, S½NW¼NW¼, N½N½SW¼NW¼, SE¼NW¼SW¼NW¼, SW¼NE¼SW¼NW¼;

Sec. 16, N½NW¼SW¼NW¼, NW¼NE¼SW¼NW¼, S½NE¼SW¼NW¼, S½S½SW¼NW¼, SW¼NW¼SW¼, and SW¼SW¼SW¼;

Sec. 17, S½;

Sec. 18, lots 1 and 2;

Sec. 19, lot 2 of the NW¼ and S½N½ of lot 1 of the NW¼;

Sec. 21, NE¼NE¼, W½SW¼NE¼, NE¼SW¼NE¼, SW¼SE¼NE¼, NE¼NW¼, SW¼NW¼, SW¼SW¼, S½NE¼SW¼, W½NW¼NE¼SE¼, W½E½NW¼NE¼SE¼, SW¼NE¼SE¼, SW¼NW¼SE¼, N½SW¼SE¼, E½SW¼SW¼SE¼, and W½W½SE¼SE¼;

Sec. 23, N½, N½NE¼SW¼, and SE¼;

Sec. 27, W½NW¼NE¼, SE¼NE¼, E½NE¼NE¼NW¼, N½SE¼NE¼NW¼, N½N½NW¼NW¼, N½S½NW¼NW¼, SW¼SW¼SW¼NW¼, S½SE¼SW¼NW¼, N½SE¼NW¼, SE¼SE¼NW¼, and SE¼SW¼;

Sec. 31, SW¼NE¼, SW¼SE¼, N½SE¼SE¼, and SE¼SE¼SE¼;

Sec. 33, W½E½SW¼NE¼, E½W½SW¼NE¼, S½SE¼NE¼, S½SE¼NE¼NW¼, SW¼SW¼NE¼NW¼, E½W½NE¼SW¼, NE¼NW¼SW¼, SE¼SW¼SW¼, E½SW¼SE¼SW¼, SE¼SE¼SW¼, E½NW¼NE¼SE¼, NE¼NE¼SE¼, S½NE¼SE¼, and S½SE¼SE¼.

T. 32 S., R. 38 E.,

Sec. 5, lot 2 of the N½, portion of lot 1 of the NW¼, portion of lot 1 of the NE¼, N½S½, and a portion of the S½S½, excluding lots 15, 28, 31, 41, 49, 51, 99, 103, 113, 119, 136, 142, 170, 191, 200, 218 and 223 of Tract No. 2714, as per map filed December 7, 1962 in Book 13 Pages 94 to 98, inclusive of maps in the office of the county recorder of said county.

The areas described aggregate 3,201.52 acres in Kern County.

The purpose of the proposed withdrawal is to assure long term protection and preservation of the public lands and lands proposed to be acquired in the Desert Tortoise Natural Area.

Until July 11, 2000, all persons who wish to submit comments, suggestions, or objections in connection with the proposed withdrawal may present their views in writing to the Field Manager, Bureau of Land Management, Ridgecrest Field Office.

Notice is hereby given that an opportunity for a public meeting is afforded in connection with the proposed withdrawal. All interested persons who desire a public meeting for the purpose of being heard on the proposed withdrawal must submit a written request to the Field Manager, Ridgecrest Field Office by July 11, 2000. Upon determination by the authorized officer that a public meeting will be held, a notice of the time and place will be published in the Federal Register at least 30 days before the scheduled date of the meeting.

The application will be processed in accordance with the regulations set forth in 43 CFR part 2300.

For a period of 2 years from the date of publication of this notice in the Federal Register, the public lands will be segregated as specified above unless the application is denied or canceled or the withdrawal is approved prior to that date. The temporary uses which may be permitted during this segregative period are those which are compatible with the use of the lands, as determined by BLM.

Dated: March 27, 2000.
David McIlnay,
Chief, Branch of Lands.

[FR Doc. 00-9022 Filed 4-11-00; 8:45 am]

BILLING CODE 4310-40-P